DEPARTMENT OF COMMERCE

National Oceanic and Atmospheric Administration

Proposed Information Collection; Comment Request; Southeast Region Gear Identification Requirements

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before March 24, 2008.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Jason Rueter, (727) 824-5350 or jason.rueter@noaa.gov.

SUPPLEMENTARY INFORMATION:

I. Abstract

The participants in Federally-regulated fisheries in the Southeast Region of the U.S. must mark their fishing gear with the official identification number or some other form of identification and color code. Harvesters of aquaculture live rock must mark or tag the material deposited. This identification is necessary to aid fishery enforcement activities and for purposes of gear identification concerning damage, loss, and civil proceedings.

II. Method of Collection

No information is collected.

III. Data

OMB Number: 0648-0359.

Form Number: None.

Type of Review: Regular submission.

Affected Public: Individuals or households; and business or other for-profits organizations.

Estimated Number of Respondents: 1,000.

Estimated Time per Response: 7 minutes for traps; 10 seconds for live rock; and 20 minutes for mackerel gillnets.

Estimated Total Annual Burden Hours: 2,192.

Estimated Total Annual Cost to Public: $17,000 in capital and recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 15, 2008.
Gwellnar Banks,
Management Analyst, Office of the Chief Information Officer.

[FR Doc. E8-916 Filed 1-18-08; 8:45 am]

BILLING CODE 3510-22-P